DEPARTMENT OF ENERGY

Federal Energy Regulatory Commission

[Docket No. RP03-393-000]

Northern Natural Gas Company; Notice of Proposed Changes in FERC Gas Tariff

May 5, 2003.

Take notice that on May 1, 2003, Northern Natural Gas Company (Northern) tendered for filing to become part of Northern's FERC Gas Tariff, Fifth Revised Volume No. 1 the following tariff sheets to be effective June 1, 2003:

Seventeenth Revised Sheet No. 54.

Fourth Revised Sheet No. 54A.

Fifteenth Revised Sheet No. 61.

Fifteenth Revised Sheet No. 62.

Fifteenth Revised Sheet No. 63.

Fifteenth Revised Sheet No. 64.

Northern states that the revised tariff sheets are being filed in accordance with section 53 of Northern's Tariff. Northern indicates that this filing establishes the fuel and unaccounted for percentages to be in effect June 1, 2003, based on actual data for the 12 month period that ended March 31, 2003.

Northern further states that copies of the filing have been mailed to each of its customers and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 13, 2003.

Magalie R. Salas,
Secretary.

[FR Doc. 03-11664 Filed 5-9-03; 8:45 am]

BILLING CODE 6717-01-P